DEPARTMENT OF ENERGY

Federal Energy Regulatory Commission

Combined Notice of Filings

Take notice that the Commission has received the following Natural Gas and Oil Pipeline Rate and Refund Report filings:

Filings Instituting Proceedings

Docket Numbers: PR23-62-000.

Applicants: Hope Gas, Inc.

Description: § 284.123 Rate Filing: HGI—Revised Statement of Operating Conditions to be effective 8/1/2023.

Filed Date: 7/31/23.

Accession Number: 20230731-5001.

Comment Date: 5 p.m. ET 8/21/23.

Docket Numbers: RP23-922-000.

Applicants: Dauphin Island Gathering Partners.

Description: § 4(d) Rate Filing: Negotiated Rate Filing—08.01.23—Chevron to be effective 8/1/2023.

Filed Date: 7/28/23.

Accession Number: 20230728-5161.

Comment Date: 5 p.m. ET 8/9/23.

Docket Numbers: RP23-923-000.

Applicants: Gulfstream Natural Gas System, L.L.C.

Description: § 4(d) Rate Filing: Negotiated Rate—Central FL Perm Release to FPUC to be effective 8/1/2023.

Filed Date: 7/31/23.

Accession Number: 20230731-5020.

Comment Date: 5 p.m. ET 8/14/23.

Docket Numbers: RP23-924-000.

Applicants: Equitrans, L.P.

Description: § 4(d) Rate Filing: Remove Expired Negotiated Rate Agreement—7/31/2023 to be effective 8/1/2023.

Filed Date: 7/31/23.

Accession Number: 20230731-5046.

Comment Date: 5 p.m. ET 8/14/23.

Docket Numbers: RP23-925-000.

Applicants: LA Storage, LLC.

Description: § 4(d) Rate Filing: Filing of Negotiated Rate, Conforming IW Agreement 7.31.23 to be effective 8/1/2023.

Filed Date: 7/31/23.

Accession Number: 20230731-5050.

Comment Date: 5 p.m. ET 8/14/23.

Docket Numbers: RP23-926-000.

Applicants: El Paso Natural Gas Company, L.L.C.

Description: § 4(d) Rate Filing: Negotiated Rate Agreement Update (Conoco August 2023) to be effective 8/1/2023.

Filed Date: 7/31/23.

Accession Number: 20230731-5052.

Comment Date: 5 p.m. ET 8/14/23.

Docket Numbers: RP23-927-000.

Applicants: El Paso Natural Gas Company, L.L.C.

Description: § 4(d) Rate Filing: Negotiated Rate Agreement Update (Hartree Aug 2023) to be effective 8/1/2023.

Filed Date: 7/31/23.

Accession Number: 20230731-5055.

Comment Date: 5 p.m. ET 8/14/23.

Docket Numbers: RP23-928-000.

Applicants: Northern Natural Gas Company.

Description: § 4(d) Rate Filing: 20230731 Negotiated Rate to be effective 8/1/2023.

Filed Date: 7/31/23.

Accession Number: 20230731-5063.

Comment Date: 5 p.m. ET 8/14/23.

Docket Numbers: RP23-929-000.

Applicants: National Fuel Gas Supply Corporation.

Description: § 4(d) Rate Filing: National Fuel Rate Case 2023 to be effective 9/1/2023.

Filed Date: 7/31/23.

Accession Number: 20230731-5076.

Comment Date: 5 p.m. ET 8/14/23.

Docket Numbers: RP23-930-000.

Applicants: Saltville Gas Storage Company L.L.C.

Description: § 4(d) Rate Filing: SGSC General Section 4 Rate Case to be effective 9/1/2023.

Filed Date: 7/31/23.

Accession Number: 20230731-5079.

Comment Date: 5 p.m. ET 8/14/23.

Docket Numbers: RP23-931-000.

Applicants: Southern Natural Gas Company, L.L.C.

Description: § 4(d) Rate Filing: Negotiated Rate Agreements—Southern Company and Spire AL Aug 2023 to be effective 8/1/2023.

Filed Date: 7/31/23.

Accession Number: 20230731-5084.

Comment Date: 5 p.m. ET 8/14/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP22-1031-005.

Applicants: Transwestern Pipeline Company, LLC.

Description: Compliance filing: RP22-1031 Settlement Compliance Filing to be effective 8/1/2023.

Filed Date: 7/31/23.

Accession Number: 20230731-5028.

Comment Date: 5 p.m. ET 8/14/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 31, 2023.
Debbie-Anne A. Reese,
Deputy Secretary.

[FR Doc. 2023-16700 Filed 8-3-23; 8:45 am]

BILLING CODE 6717-01-P